DEPARTMENT OF HOMELAND SECURITY

Office of the Secretary

[Docket No. DHS-2008-0142]

Privacy Act of 1974; United States Coast Guard—018 Exchange System and Morale Well-Being and Recreation System Files System of Records

AGENCY: Privacy Office; DHS.

ACTION: Notice of Privacy Act system of records.

SUMMARY: In accordance with the Privacy Act of 1974 and as part of the Department of Homeland Security's ongoing effort to review and update legacy system of records notices, the Department of Homeland Security is giving notice that it proposes to update and reissue the following legacy record system DOT/CG 535 Coast Guard Exchange System (CGES) and Morale, Welfare and Recreation (MWR) System (April 11, 2000) as a Department of Homeland Security/United States Coast Guard system of records notice titled, Coast Guard Exchange System (CGES) and Morale, Well-being and Recreation (MWR) Program. Categories of individuals, categories of records, and the routine uses of this legacy system of records notice have been reviewed and updated to better reflect the Department of Homeland Security and the United States Coast Guard's Coast Guard Exchange System (CGES) and Morale, Well-being and Recreation (MWR) Program record system. This new system will be included in the Department of Homeland Security's inventory of record systems.

DATES: Written comments must be submitted on or before January 20, 2009.

ADDRESSES: You may submit comments, identified by docket number DHS-2008-0142 by one of the following methods:

• Federal e-Rulemaking Portal: http://www.regulations.gov. Follow the instructions for submitting comments.

• Fax: 1-866-466-5370.

• Mail: Hugo Teufel III, Chief Privacy Officer, Privacy Office, Department of Homeland Security, Washington, DC 20528.

• Instructions: All submissions received must include the agency name and docket number for this rulemaking. All comments received will be posted without change and may be read at http://www.regulations.gov, including any personal information provided.

• Docket: For access to the docket, to read background documents, or comments received, go to http://www.regulations.gov.

FOR FURTHER INFORMATION CONTACT: For general questions please contact: David Roberts (202-475-3521), United States Coast Guard Privacy Officer, United States Coast Guard. For privacy issues please contact: Hugo Teufel III (703-235-0780), Chief Privacy Officer, Privacy Office, Department of Homeland Security, Washington, DC 20528.

SUPPLEMENTARY INFORMATION:

I. Background

Pursuant to the savings clause in the Homeland Security Act of 2002, Public Law 107-296, section 1512, 116 Stat. 2310 (November 25, 2002), the Department of Homeland Security (DHS) and its components and offices have relied on preexisting Privacy Act systems of records notices for the collection and maintenance of records that concern the Coast Guard Exchange System (CGES), and Morale, Well-being and Recreation (MWR) Program.

As part of its efforts to streamline and consolidate its record systems, DHS is updating and reissuing a USCG system of records under the Privacy Act (5 U.S.C. 552a) that deals with the CGES and MWR Program. CGES and MWR programs are nonpay compensation programs that provide for the mission readiness and retention of military personnel, their families, and other eligible patron groups. CGES provides high quality goods and services at price savings to its patrons with a return to support MWR programs. MWR offers a wide range of programs, facilities, and services such as fitness centers, picnic areas, child development centers, food and beverage operations, and golf courses to name a few. A complete list of MWR activities may be found in the Coast Guard Morale, Well-Being, and Recreation Manual, COMDTINST M1710.13 (series). This record system will allow DHS/USCG to collect and preserve the records regarding the CGES and MWR Program. The collection and maintenance of this information will assist DHS/USCG in meeting its obligation to administer the CGES and MWR Program.

In accordance with the Privacy Act of 1974 and as part of DHS's ongoing effort to review and update legacy system of records notices, DHS is giving notice that it proposes to update and reissue the following legacy record system DOT/CG 535 Coast Guard Exchange System (CGES) and Morale, Welfare and Recreation (MWR) System (65 FR 19475 April 11, 2000) as a DHS/USCG system of records notice titled, Coast Guard Exchange System (CGES) and Morale, Well-being and Recreation (MWR) Program. Categories of individuals and categories of records have been reviewed, and the routine uses of this legacy system of records notice have been updated to better reflect the Department of Homeland Security and the United States Coast Guard's CGES and MWR Program record system. This new system will be included in the Department of Homeland Security's inventory of record systems.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and lawful permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR part 5.

The Privacy Act requires each agency to publish in the Federal Register a description denoting the type and character of each system of records that the agency maintains, and the routine uses that are contained in each system in order to make agency record keeping practices transparent, to notify individuals regarding the uses to which their records are put, and to assist individuals to more easily find such files within the agency. Below is the description of the CGES and MWR Program System of Records.

In accordance with 5 U.S.C. 552a(r), DHS has provided a report of this new system of records to the Office of Management and Budget and to Congress.

SYSTEM OF RECORDS:

DHS/USCG-018.

SYSTEM NAME:

United States Coast Guard Coast Guard—018 Exchange System (CGES) and Morale, Well-being and Recreation (MWR) Program.

SECURITY CLASSIFICATION:

Unclassified.

SYSTEM LOCATION:

Records are maintained at the United States Coast Guard Headquarters in Washington, DC and field offices.

CATEGORIES OF INDIVIDUALS COVERED BY THE SYSTEM:

Categories of individuals covered by this system Include eligible patrons of CGES and MWR including active duty members and their dependents, members of the reserves and their dependents, military cadets of Services academies and their families, commissioned officers of the Public Health Service, and their dependents, commissioned officers of the National Oceanic and Atmospheric Administration on active duty, armed forces retirees from active duty and their dependents, armed forces retires from the reserves with/without pay and their dependents, honorably discharged veterans with 100 percent service-connected disability and their dependents, Medal of Honor recipients and their dependents, former spouses who have not remarried, but were married to a military member for at least 20 years while the military member was on active duty of the armed forces and their dependents, orphans of a military member when not adopted by new parents under 21 years old or 23 years old if they are in full-time study, DHS and DoD civilian employees and their dependents, other U.S. Federal employees, medical personnel under contract to the Coast Guard or DoD, when residing on an installation, military personnel of foreign nations and their dependents when on orders from the U.S. Armed Forces, paid members of the American Red Cross, Young Men's Christian Association, United Services Organization and other private organizations when assigned to and serving with the U.S. Armed Forces, DHS/DoD contract personnel, Reserve Officers Training Corps cadets, former prisoners of war and spouses of current POWs or service members missing in action and their family members, nonappropriated and appropriated funded foreign nationals, and other civilian members as authorized.

CATEGORIES OF RECORDS IN THE SYSTEM:

Categories of records in this system include:

• Individual's name;

• Payroll and personnel records;

• Accounting records for MWR loans;

• Listing of bad checks;

• Job applications;

• Correspondence regarding use of CGES and MWR programs and facilities;

• Membership applications as applicable for the use of any facilities;

• Investigatory reports involving damage to facilities or abuse of privileges to utilize facilities; and

• Financial accounting documentation supporting sales, accounts payable, accounts receivable as examples for the CGES/MWR program.

AUTHORITY FOR MAINTENANCE OF THE SYSTEM:

5 U.S.C. 301; 5 U.S.C. 2105; 10 U.S.C. 1146, 1587; 14 U.S.C. 632; the Federal Records Act, 44 U.S.C. 3101.

PURPOSE(S):

The purpose of this system to administer programs that provide for the mission readiness and retention of Coast Guard personnel and other authorized users; to document the approval and conduct of specifics contests, shows, entertainment programs, sports activities/competitions, and other MWR-type activities and events sponsored or sanctioned by the Coast Guard. Information is used for registration; reservations; track participation; pass management; report attendance; record sales transactions; maintain billing for individuals; collect payments; collect and report time and attendance of employees; process credit cards, personal checks, and debt cards; create and manage budgets; order and receive supplies and services; provide child care services reports; track inventory, and issue catered event contracts. Information will be used to market and promote similar MWR-type activities conducted by Services' MWR programs, to provide a means of paying, recording, accounting, reporting, and controlling expenditures and merchandise inventories associated with retail operations, rentals, and activities such as bingo games.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records of information contained in this system may be disclosed outside DHS as a routine use pursuant to 5 U.S.C. 552a(b)(3) as follows:

A. To the Department of Justice or other Federal agency conducting litigation or in proceedings before any court, adjudicative or administrative body, when:

1. DHS or any component thereof;

2. Any employee of DHS in his/her official capacity;

3. Any employee of DHS in his/her individual capacity where DOJ or DHS has agreed to represent the employee; or

4. The United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

DISCLOSURE TO CONSUMER REPORTING AGENCIES:

None.

POLICIES AND PRACTICES FOR STORING, RETRIEVING, ACCESSING, RETAINING, AND DISPOSING OF RECORDS IN THE SYSTEM:

Storage:

Records in this system are stored electronically or on paper in secure facilities in a locked drawer behind a locked door. The records are stored on magnetic disc, tape, digital media, and CD-ROM.

RETRIEVABILITY:

Records may be retrieved alphabetically by name.

SAFEGUARDS:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions.

RETENTION AND DISPOSAL:

Letters of authorization for Coast Guard MWR/CGES activities are destroyed 3 years after disestablishment of the activity. Records and supporting documents for administration of Coast Guard MWR/CGES activities including bank statements, check registers, cash books, cancelled checks, property and stock records, expenditure vouchers, purchase orders, vendors' invoices, payroll and personnel records, daily activity records, guest registration cards, food and beverage cost control sheets, petty cash vouchers, reports and related papers are destroyed 6 years and 3 months after the period covered by the account. Credit cards receipts are destroyed in accordance with retention requirements issued by the card processing agency and ranges from 6 months to 2 years. GRS 2, item 1-31.

SYSTEM MANAGER AND ADDRESS:

Commandant, CG-1, Assistant Commandant for Human Resources, United States Coast Guard Headquarters, 2100 2nd Street, SW., Washington, DC 20593-0001.

NOTIFICATION PROCEDURE:

Individuals seeking notification of and access to any record contained in this system of records, or seeking to contest its content, may submit a request in writing to Commandant, CG-1, Assistant Commandant for Human Resources, United States Coast Guard Headquarters, 2100 2nd Street, SW., Washington, DC 20593-0001.

When seeking records about yourself from this system of records or any other USCG system of records your request must conform with the Privacy Act regulations set forth in 6 CFR part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Director, Disclosure and FOIA, http://www.dhs.gov or 1-866-431-0486. In addition you should provide the following:

• An explanation of why you believe the Department would have information on you,

• Specify when you believe the records would have been created,

• If your request is seeking records pertaining to another living individual, you must include a statement from that individual certifying his/her agreement for you to access his/her records.

Without this bulleted information the USCG will not be able to conduct an effective search, and your request may be denied due to lack of specificity or lack of compliance with applicable regulations.

RECORD ACCESS PROCEDURES:

See “Notification procedure” above.

CONTESTING RECORD PROCEDURES:

See “Notification procedure” above.

RECORD SOURCE CATEGORIES:

Individual record subject, previous employees, employment agencies, civilian and military investigative reports, and general correspondence.

EXEMPTIONS CLAIMED FOR THE SYSTEM:

None.

Dated: December 10, 2008.
Hugo Teufel III,
Chief Privacy Officer, Department of Homeland Security.

[FR Doc. E8-29783 Filed 12-18-08; 8:45 am]

BILLING CODE 4410-10-P